DEPARTMENT OF COMMERCE

National Institute of Standards and Technology

Notice of Public Meeting—Cloud Computing Forum & Workshop V

AGENCY: National Institute of Standards & Technology (NIST), Commerce.

ACTION: Notice.

SUMMARY: NIST announces the Cloud Computing Forum & Workshop V to be held on Tuesday, Wednesday and Thursday, June 5, 6 and 7, 2012. The format is a two-day forum followed by a one-day hands-on workshop. This workshop will provide information on the U.S. Government (USG) Cloud Computing Technology Roadmap initiative. This workshop will also provide an updated status on NIST efforts to help develop open standards in interoperability, portability and security in cloud computing. This event is open to the public. In addition, NIST invites organizations to participate as Exhibitors as described in the SUPPLEMENTARY INFORMATION section below.

DATES: The Cloud Computing Forum & Workshop V will be held Tuesday, Wednesday and Thursday, June 5, 6 and 7, 2012. Participants must pre-register by close of business Tuesday, May 29, 2012. Please see registration instructions in the SUPPLEMENTARY INFORMATION section below.

ADDRESSES: The forum and workshop will be held at the Department of Commerce, Herbert C. Hoover Building, 1401 Constitution Avenue NW., Washington, DC 20230.

FOR FURTHER INFORMATION CONTACT: To submit a response to this request for exhibitors, and for further information contact Romayne Hines by email at romayne.hines@nist.gov or by phone at (301) 975-4090.

SUPPLEMENTARY INFORMATION: NIST hosted four prior Cloud Computing Forum & Workshop events in May 2010, November 2010, April 2011, and November 2011. The purpose of these workshops was to respond to the request of the Federal Chief Information Officer to NIST to lead federal efforts on standards for data portability, cloud interoperability, and security. The workshops' goals were to engage with industry to accelerate the development of cloud standards for interoperability, portability, and security; discuss the Federal Government's experience with cloud computing, report on the status of the NIST Cloud Computing efforts, launch and report progress on the NIST led initiative to collaboratively develop a USG Cloud Computing Technology Roadmap among multiple federal and industrial stakeholders, and to advance a dialogue between these groups. Building on the prior workshop events, the purpose of the fifth NIST-hosted Cloud Computing Forum & Workshop is to provide a forum to share international government perspectives on how the Cloud Computing Information Technology model can be used to improve public services, provide an update on NIST Cloud Computing working group progress, and to showcase examples of academic, industry, standards organizations and government partner efforts which relate to the USG Cloud Computing Technology Roadmap priorities.

NIST invites members of the public, especially cloud computing community stakeholders to participate in this event as exhibitors. On Tuesday and Wednesday, June 5 and 6, 2012, space will be available for 30 academic, industry, and standards developing organizations to exhibit their respective cloud computing work at a demonstration booth or table which is co-located with the event. Interested organizations should contact Romayne Hines at the email address or phone number given in the FOR FURTHER INFORMATION CONTACT section above. Exhibitors will be accepted in the order in which their responses are received. The first 30 organizations which respond will be accepted. Responses must be submitted by an authorized representative of the organization. Logistics information will be provided to accepted exhibitors. NIST will provide the exhibit location space and one work table free of charge. Exhibitors are responsible for the cost of the exhibit, including staffing and materials. NIST reserves the right to exercise its judgment in the placement of exhibits. General building security is supplied; however, exhibitors are responsible for transporting and securing exhibit equipment and materials.

Anyone wishing to attend this meeting must register at http://www.nist.gov/itl/cloud/cloudworkshopv.cfm by close of business Tuesday, May 29, 2012.

Dated: May 1, 2012.
David Robinson,
Associate Director for Management Resources.

[FR Doc. 2012-10811 Filed 5-3-12; 8:45 am]

BILLING CODE 3510-13-P